DEPARTMENT OF HEALTH AND HUMAN SERVICES

Health Resources and Services Administration

Agency Information Collection Activities: Submission to OMB for Review and Approval; Nurse Anesthetist Traineeship (NAT) Program Specific Data Forms, OMB Control No. 0915-0374—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR have been provided to OMB. OMB will accept further comments from the public during the review and approval period.

DATES: Comments on this ICR should be received no later than November 29, 2019.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Nurse Anesthetist Traineeship (NAT) Program Specific Data Forms, OMB Control No. 0915-0374—Revision.

Abstract: HRSA provides advanced education nursing training grants to educational institutions to increase the numbers of Certified Registered Nurse Anesthetists through the NAT Program. The NAT Program is authorized by Section 811 of the Public Health Service (PHS) Act (42 U.S.C. 296j). The NAT Tables request information on program participants such as the number of enrollees/trainees, number of enrollees/trainees supported, number of graduates, number of graduates supported, number of projected enrollees/trainees, degree program (Master's and Doctoral), and the distribution of Nurse Anesthetists who practice in underserved, rural, and/or public health practice settings.

Need and Proposed Use of the Information: Funds appropriated for the NAT Program are distributed among eligible institutions based on a formula, as permitted by PHS Act section 806(e)(1). HRSA uses the data from the NAT Tables to determine if the Funding Factors (either the Statutory Funding Preference or Special Consideration) are met, determine the award amount, ensure compliance with programmatic and grant requirements, and provide information to the public and Congress. The NAT Tables currently collect one year of data, which allows HRSA to calculate award amounts for a single-year project period. For fiscal year 2020, HRSA is revising the forms that previously collected one year of data on prospective students to capture three years of data, thereby allowing HRSA to calculate award amounts for a multi-year project period. Table 1 will add columns to collect Year 2 and Year 3 data for the number of prospective students. While Table 2 data collection elements will not change, the header will change to provide further clarification about the data being collected.

Likely Respondents: Respondents will be applicants to HRSA's NAT Program.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Table 1—NAT: Enrollment, Traineeship Support, Graduate, Graduates Supported and Projected Data | 100 | 1 | 100 | 3.5 | 350
Table 2—NAT: Graduate Data—Rural, Underserved, or Public Health | 100 | 1 | 100 | 2.8 | 280
Total | * 100 |  | 100 |  | 630
* The same respondents are completing Tables 1 and Table 2.

Maria G. Button,
Director, Executive Secretariat.

[FR Doc. 2019-23564 Filed 10-28-19; 8:45 am]

BILLING CODE 4165-15-P